NATIONAL AERONAUTICS AND SPACE ADMINISTRATION

[Notice 05-137]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: September 16, 2005.

FOR FURTHER INFORMATION CONTACT: Robert M. Padilla, Patent Counsel, Ames Research Center, Code 202A-4, Moffett Field, CA 94035-1000; telephone (650) 604-5104; fax (650) 604-2767.

NASA Case No. ARC-15461-1: Portable Virtual Environment System for Emergency Response Applications;

NASA Case No. ARC-15487-1: Communication Path for Extreme Environments;

NASA Case No. ARC-15542-1: Catalyst Selection for Synthesis of Inorganic Nanostructures and Nanowires;

NASA Case No. ARC-15564-1: Clench Mode Control of Vehicle Motion or Appliance Operation;

NASA Case No. ARC-15461-2: Portable Environment Interrogation System for Health Care Workers in an Emergency Environment;

NASA Case No. ARC-15519-1: Applications of Sub-Audible Speech Recognition Based Upon Electromyographic Signals.

Dated: September 12, 2005.
Keith T. Sefton,
Deputy General Counsel, Administration and Management.

[FR Doc. 05-18447 Filed 9-15-05; 8:45 am]

BILLING CODE 7510-13-P